DEPARTMENT OF TRANSPORTATION

Federal Aviation Administration

Public Notice for a Change in Use of Aeronautical Property at Portland International Jetport, Portland, ME

AGENCY: Federal Aviation Administration (FAA), DOT.

ACTION: Request for Public Comments.

SUMMARY: The FAA is requesting public comment on the City of Portland, Maine's request to change a portion (1.16 acres) of Airport property from aeronautical use to non-aeronautical use. The property is located bordered by the Jetport Plaza Road, Western Avenue and the Jetport Plaza shopping mall. It is identified on the City of South Portland's Tax Map C-05 as Lot 44-16. Upon disposition a retail tire center will be constructed on the site. The property was acquired under FAAP Project No. 9-17-001508.

The disposition of proceeds from the disposal of airport property will be in accordance with FAA's Policy and Procedures Concerning the Use of Airport Revenue, published in the Federal Register on February 16, 1999.

DATES: Comments must be received on or before June 2, 2008.

ADDRESSES: Documents are available for review by appointment by contacting Jeff Schultes, Airport Manager, Portland International Jetport, Telephone 207-772-0690 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on April 14, 2008.
LaVerne F. Reid,
Manager, Airports Division, New England Region.

[FR Doc. E8-9619 Filed 5-1-08; 8:45 am]

BILLING CODE 4910-13-M